DEPARTMENT OF TRANSPORTATION

Federal Aviation Administration

14 CFR Part 71

[Docket No. FAA-2023-1735; Airspace Docket No. 23-AGL-18]

RIN 2120-AA66

Amendment of VOR Federal Airways V-78 and V-171; Darwin, MN

AGENCY: Federal Aviation Administration (FAA), DOT.

ACTION: Final rule; correction.

SUMMARY: This action corrects a final rule published by the FAA in the Federal Register on March 5, 2024, that amended Very High Frequency Omnidirectional Range (VOR) Federal Airways V-78 and V-171 due to the planned decommissioning of the VOR portion of the Darwin, MN (DWN), VOR/Tactical Air Navigation (VORTAC) navigational aid (NAVAID). In the final rule, the V-171 description inadvertently included the airway segment between the Terre Haute, IN, VORTAC and the Peotone, IL, VORTAC, in error. That airway segment was removed from V-171, effective January 25, 2024, in a separate docket action when the VOR portion of the Danville, IL, VORTAC was decommissioned. This action corrects that error.

DATES: Effective date 0901 UTC, May 16, 2024. The Director of the Federal Register approves this incorporation by reference action under 1 CFR part 51, subject to the annual revision of FAA Order JO 7400.11 and publication of conforming amendments.

ADDRESSES: A copy of the Notice of Proposed Rulemaking (NPRM), all comments received, the final rule, this final rule correction, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule for Docket No. FAA-2023-1735 in the Federal Register (89 FR 15738; March 5, 2024) amending VOR Federal Airways V-78 and V-171 due to the planned decommissioning of the VOR portion of the Darwin, MN, VORTAC NAVAID. Prior to publication of that rule, the FAA had published a rule for Docket No. FAA-2023-1026 in the Federal Register (88 FR 75484; November 3, 2023) amending V-171 by removing the airway segment between the Terra Haute, IN, VORTAC and the Peotone, IL, VORTAC due to the VOR portion of the Danville, IL, VORTAC being decommissioned. The V-171 airway amendment in Docket No. FAA-2023-1026 was inadvertently included in the final rule for Docket No. FAA-2023-1735. The correct V-171 description extends between the Lexington, KY, VOR/Distance Measuring Equipment (VOR/DME) and the Terre Haute, IN, VORTAC; between the Peotone, IL, VORTAC and the Joliet, IL, VOR/DME; between the Nodine, MN, VORTAC and the Farmington, MN, VORTAC; and between the Alexandria, MN, VOR/DME and the Grand Forks, ND, VOR/DME. This rule corrects the V-171 description in the regulatory text section of the Docket No. FAA-2023-1735 final rule.

This action does not alter the alignment of the amended V-78 or V-171 beyond the removal of the airway segment in V-171 between the Terra Haute, IN, VORTAC and the Peotone, IL, VORTAC which was included, in error, in the final rule.

Correction to Final Rule

Accordingly, pursuant to the authority delegated to me, the V-171 airway description in the regulatory text section of the rule in Docket No. FAA-2023-1735, as published in the Federal Register of March 5, 2024 (89 FR 15738), FR Doc. 2024-04611, is corrected as follows:

1. In FR Doc. 2024-04611, appearing on page 15740, in the first column, replace the V-171 airway description in the regulatory text section of the rule to read,

V-171 [Amended]

From Lexington, KY; INT Lexington 251° and Louisville, KY, 114° radials; Louisville; to Terre Haute, IN. From Peotone, IL; INT Peotone 281° and Joliet, IL, 173° radials; to Joliet. From Nodine, MN; INT Nodine 298° and Farmington, MN, 124° radials; to Farmington. From Alexandria, MN; INT Alexandria 321° and Grand Forks, ND, 152° radials; to Grand Forks.

Issued in Washington, DC, on April 12, 2024.
Frank Lias,
Manager, Rules and Regulations Group.

[FR Doc. 2024-08167 Filed 4-17-24; 8:45 am]

BILLING CODE 4910-13-P